DEPARTMENT OF AGRICULTURE

Forest Service

Intermountain Region 4; Notice of Settlement Pursuant to CERCLA; Bassett Gulch Mill Site, Blaine County, ID

AGENCY: Forest Service, USDA.

ACTION: Notice of settlement.

SUMMARY: In accordance with Section 122(i) of the Comprehensive Environmental Response, Compensation, and Liability Act, as amended (CERCLA), 42 U.S.C. 9622(i), notice is hereby given of an administrative settlement for recovery of past response costs with Brigham Young University (the Settling Party) concerning the Bassett Gulch Mill Site, Blaine County, Idaho (“the Site”). Under the settlement, the Settling Party has agreed to undertake a removal action at the Site at a cost of approximately $500,000 to address the continuing release of hazardous substances at the Site. Pursuant to Section 122(h)(1) of CERCLA, 42 U.S.C. 9622(h)(1), the USDA Forest Service Intermountain Region has agreed to forego the collection of past response costs at the Site from the Settling Party. The settlement includes a covenant not to sue the Settling Party pursuant to Sections 106 and 107(a) of CERCLA, 42 U.S.C. 9606 and 9607(a), with regard to the Site.

For thirty (30) days following the date of publication of this notice, the United States will receive written comments relating to the settlement. The United States will consider all comments received and may modify or withdraw its consent to the settlement if comments received disclose facts or considerations which indicate that the settlement is inappropriate, improper, or inadequate. The United States' response to any comments received will be available for public inspection at the Ketchum Ranger District, P.O. Box 2356, 206 Sun Valley Road, Ketchum, ID, 83340 and at the offices of the USDA Forest Service Intermountain Region, 324 25th Street, Ogden, UT 84401.

DATES: Comments must be submitted on or before November 28, 2003.

ADDRESSES: The proposed settlement is available for public inspection at the Ketchum Ranger District, PO Box 2356, 206 Sun Valley Road, Ketchum, ID, 83340 and at the offices of the USDA Forest Service Intermountain Region, 324 25th Street, Ogden, UT 84401. A copy of the proposed settlement may be obtained from Mike O'Farrell at the Ketchum Ranger District at 208-622-5371, or from Michael R. Hope with USDA's Office of the General Counsel, (303) 275-5545. Comments should reference the Bassett Gulch Mill Site, Blaine County, Idaho, and should be addressed to Michael R. Hope, USDA Office of the General Counsel, P.O. Box 25005, Denver, CO 80225-0005.

FOR FURTHER INFORMATION CONTACT: For technical information, contact Pat Trainor, USDA Forest Service, PO Box 1026, McCall, ID 83638, phone (208) 634-0700. For legal information, Michael R. Hope, USDA Office of the General Counsel, P.O. Box 25005, Denver, CO 80225-0005, phone (303) 275-5545.

Dated: September 23, 2003.
Jack G. Troyer,
Regional Forester, USDA Forest Service, Intermountain Region.

[FR Doc. 03-27138 Filed 10-27-03; 8:45 am]

BILLING CODE 3410-11-M